DEPARTMENT OF THE INTERIOR

U.S. Fish and Wildlife Service

[FWS-HQ-R-2017-N183; FXRS85110900000-XXX-FF09R40000]

Draft Long-Range Transportation Plans for U.S. Fish and Wildlife Service Lands in Regions 2, 6, and 8

AGENCY: Fish and Wildlife Service, Interior.

ACTION: Notice of availability; request for comments.

SUMMARY: We, the U.S. Fish and Wildlife Service (Service), announce the availability of three draft long-range transportation plans for public review and comment. These draft long-range transportation plans outline strategies for improving and maintaining transportation assets that provide access to Service-managed lands in Region 2 (Arizona, New Mexico, Oklahoma, and Texas), Region 6 (Colorado, Kansas, Montana, North Dakota, South Dakota, Utah, and Wyoming), and Region 8 (California and Nevada) over the next 20 years.

DATES: We must receive written comments on or before August 20, 2018.

ADDRESSES: Document Review: If you wish to review these draft plans, you may obtain copies by visiting the following websites:

• Region 2: https://ecos.fws.gov/ServCat/Reference/Profile/87706

• Region 6: https://ecos.fws.gov/ServCat/Reference/Profile/87709

• Region 8: https://ecos.fws.gov/ServCat/Reference/Profile/87710

Alternatively, you may contact Laura Whorton, Acting Transportation Branch Chief, National Wildlife Refuge System, U.S. Fish and Wildlife Service, 5275 Leesburg Pike, Bailey's Crossroads, VA 22041 (phone: 703-358-1752).

Submitting Comments: If you wish to comment on any or all of the plans, you may submit your comments in writing by any one of the following methods:

• U.S. mail: Acting Transportation Branch Chief, at the above address.

• Hand-delivery: Acting Transportation Branch Chief Analyst, at the above address.

• Fax: 703-358-1752.

• Email: laura_whorton@fws.gov.

For additional information about submitting comments, see the Public Availability of Comments section below.

FOR FURTHER INFORMATION CONTACT: Laura Whorton, at the above address, phone number, or email.

SUPPLEMENTARY INFORMATION:

Introduction

With this notice, we make the draft long-range transportation plans (LRTPs) for Regions 2, 6, and 8 of the U.S. Fish and Wildlife Service available for public review and comment. When finalized, the LRTPs will apply to Service-managed lands in Region 2 (Arizona, New Mexico, Oklahoma, and Texas), Region 6 (Colorado, Kansas, Montana, North Dakota, South Dakota, Utah, and Wyoming), and Region 8 (California and Nevada).

Background

The Fixing America's Surface Transportation (FAST) Act (Pub. L. 114-94) requires that all Federal land management agencies conduct long-range transportation planning in a manner that is consistent with metropolitan planning organizations and State departments of transportation planning. We initiated these LRTPs to bring the Service into compliance with the FAST Act and to achieve the following goals:

• Establish a defensible structure for sound transportation planning and decision-making;

• Establish a vision, mission, goals, and objectives for transportation planning in each of these three Service Regions;

• Implement coordinated and cooperative transportation partnerships in an effort to improve the Service's transportation infrastructure;

• Integrate transportation planning and funding for national wildlife refuges and national fish hatcheries into existing and future Service management plans and strategies;

• Increase awareness of alternative transportation systems and associated benefits;

• Develop best management practices for transportation improvements on Service lands; and

• Serve as a pilot project for the implementation of a region-level transportation planning process within the Service.

LRTP Mission, Goals, and Objectives

Through a collaborative effort, the National Wildlife Refuge System and the Fish and Aquatic Conservation Program, in cooperation with the planning and visitor services programs within these three Regions, have contributed to defining the mission, goals, and objectives presented in this document. The resulting mission, goals, and objectives are intended to provide a systematic approach to guide the process for evaluating and selecting transportation improvement programs for the Service lands in these Regions. These guiding principles have shaped the development, conclusions, and recommendations of these LRTPs. While each Region's specific mission, vision, goals, and objectives differ slightly, they are substantively similar.

Mission: To support the Service's mission by connecting people to fish, wildlife, and their habitats through strategic implementation of transportation programs.

Goals and Objectives: Each of these long-range transportation plans has six substantively similar goals: Safety; access, mobility, and connectivity; asset management; environmental protection; visitor experience; and partnership. Region 8 has an additional seventh goal: Planning. Under each goal, each Region presents distinct objectives that move the Service to the goal. Please see the individual draft LRTPs for more information.

Next Steps

After the comment period ends, the Service will analyze the comments received and consider them in preparation of final LRTPs.

Public Availability of Comments

Before including your address, phone number, email address, or other personal identifying information in your comment, you should be aware that your entire comment—including your personal identifying information—may be made publicly available at any time. While you can ask us in your comment to withhold your personal identifying information from public review, we cannot guarantee that we will be able to do so.

Gregory J. Sheehan,
Principal Deputy Director, U.S. Fish and Wildlife Service.

[FR Doc. 2018-15415 Filed 7-18-18; 8:45 am]

BILLING CODE 4333-15-P